DEPARTMENT OF COMMERCE

International Trade Administration

[A-570-868]

Antidumping Duty Order: Folding Metal Tables and Chairs From the People's Republic of China

AGENCY: Import Administration, International Trade Administration, Department of Commerce.

ACTION: Notice of antidumping duty order.

EFFECTIVE DATE: June 27, 2002.

FOR FURTHER INFORMATION CONTACT: John Drury or Helen Kramer, Enforcement Group III, Office 8, Import Administration, International Trade Administration, U.S. Department of Commerce, 1401 Constitution Avenue, NW, Washington, DC 20230; telephone: (202) 482-0195 or (202) 482-0405, respectively.

Applicable Statute and Regulations

Unless otherwise indicated, all citations to the Tariff Act of 1930, as amended (“the Act”), are references to the provisions effective January 1, 1995, the effective date of the amendments made to the Act by the Uruguay Round Agreements Act. In addition, unless otherwise indicated, all citations to the Department's regulations are to the regulations at 19 CFR part 351 (2001).

SUPPLEMENTARY INFORMATION:

Background

On April 17, 2002, the Department issued its final determination in the antidumping duty investigation of folding metal tables and chairs from the People's Republic of China (“PRC”). See Notice of Final Determination of Sales at Less Than Fair Value: Folding Metal Tables and Chairs from the People's Republic of China, 67 FR 20090 (April 24, 2002). On May 10, 2002, the Department issued its amended final determination in the antidumping duty investigation of folding metal tables and chairs from the PRC. See Notice of Amended Final Determination of Sales at Less Than Fair Value: Folding Metal Tables and Chairs from the People's Republic of China, 67 FR 34898 (May 16, 2002) (“Amended Final Determination”). In the Amended Final Determination, the Department amended the weighted-average margin for Feili Furniture Development Co., Ltd. and Feili (Fujian) Co., Ltd. (“Feili Group”), Dongguan Shichang Metals Factory Co. Ltd., and New-Tec Integration Co., Ltd.

On June 4, 2002, the International Trade Commission notified the Department of its final determination pursuant to section 735(b)(1)(A)(i) of the Act that an industry in the United States is materially injured by reason of less-than-fair-value imports of folding metal tables and chairs from the PRC. The Commission also determined that critical circumstances do not exist with regard to imports of such merchandise that are subject to the Department's affirmative critical circumstances finding.

Scope of the Investigation

The merchandise subject to this investigation consists of assembled and unassembled folding tables and folding chairs made primarily or exclusively from steel or other metal, as described below:

(1) Assembled and unassembled folding tables made primarily or exclusively from steel or other metal (“folding metal tables”). Folding metal tables include square, round, rectangular, and any other shapes with legs affixed with rivets, welds, or any other type of fastener, and which are made most commonly, but not exclusively, with a hardboard top covered with vinyl or fabric. Folding metal tables have legs that mechanically fold independently of one another, and not as a set. The subject merchandise is commonly, but not exclusively, packed singly, in multiple packs of the same item, or in five piece sets consisting of four chairs and one table. Specifically excluded from the scope of folding metal tables are the following:

Lawn furniture;

Trays commonly referred to as “TV trays”;

Side tables;

Child-sized tables;

Portable counter sets consisting of rectangular tables 36″ high and matching stools; and

Banquet tables. A banquet table is a rectangular table with a plastic or laminated wood table top approximately 28″ to 36″ wide by 48″ to 96″ long and with a set of folding legs at each end of the table. One set of legs is composed of two individual legs that are affixed together by one or more cross-braces using welds or fastening hardware. In contrast, folding metal tables have legs that mechanically fold independently of one another, and not as a set.

(2) Assembled and unassembled folding chairs made primarily or exclusively from steel or other metal (“folding metal chairs”). Folding metal chairs include chairs with one or more cross-braces, regardless of shape or size, affixed to the front and/or rear legs with rivets, welds or any other type of fastener. Folding metal chairs include: those that are made solely of steel or other metal; those that have a back pad, a seat pad, or both a back pad and a seat pad; and those that have seats or backs made of plastic or other materials. The subject merchandise is commonly, but not exclusively, packed singly, in multiple packs of the same item, or in five piece sets consisting of four chairs and one table. Specifically excluded from the scope of folding metal chairs are the following:

Folding metal chairs with a wooden back or seat, or both;

Lawn furniture;

Stools;

Chairs with arms; and

Child-sized chairs.

The subject merchandise is currently classifiable under subheadings 9401710010, 9401710030, 9401790045, 9401790050, 9403200010 and 9403200030 of the HTSUS. Although the HTSUS subheadings are provided for convenience and U.S. Customs Service purposes, the Department's written description of the merchandise is dispositive.

Antidumping Duty Order

In accordance with section 736(a)(1) of the Act, the Department is directing Customs officers to assess, upon further advice by the Department, antidumping duties equal to the amount by which the normal value of the merchandise exceeds the export price of the merchandise for all relevant entries of folding metal tables and chairs from the PRC. The antidumping duties will be assessed on all unliquidated entries of folding metal tables and chairs from the PRC entered, or withdrawn from warehouse, for consumption on or after December 3, 2001, the date on which the Department published its notice of preliminary determination in the Federal Register. See Notice of Preliminary Determination of Sales at Less Than Fair Value: Folding Metal Tables and Chairs from the People's Republic of China, 66 FR 60185. On or after the date of publication of this notice in the Federal Register, customs officers must require, at the same time as importers would normally deposit estimated duties on this merchandise, a cash deposit equal to the estimated weighted-average dumping margins as noted below. The PRC-wide rate applies to all exporters of subject merchandise from the PRC other than the companies named. The weighted-average dumping margins are as follows:

Exporter/manufacturer | weighted-average margin percentage
Feili Furniture Development Co., Ltd. and Feili (Fujian) Co., Ltd | 13.72
Dongguan Shichang Metals Factory Co. Ltd | 13.72
New-Tec Integration Co., Ltd | 13.72
Shin Crest Pte. Ltd | 00.00
PRC-wide | 70.71

This notice constitutes the antidumping duty order with respect to folding metal tables and chairs from the PRC. Interested parties may contact the Department's Central Records Unit, room B-099 of the main Department of Commerce building, for copies of an updated list of antidumping duty orders currently in effect.

This order is published in accordance with section 736(a) of the Act.

Dated: June 14, 2002.
Faryar Shirzad,
Assistant Secretary for Import Administration.

[FR Doc. 02-16199 Filed 6-26-02; 8:45 am]

BILLING CODE 3510-DS-P